DEPARTMENT OF AGRICULTURE

Forest Service

36 CFR Part 251

RIN 0596-AD44

Land Uses; Special Uses; Annual Programmatic Administrative Fee for Communications Use Authorizations; Reopening of Comment Period

AGENCY: Forest Service, Agriculture (USDA).

ACTION: Proposed rule; reopening of comment period.

SUMMARY: The Forest Service (Agency), U.S. Department of Agriculture, published a proposed rule in the Federal Register on December 22, 2021, initiating a 60-day comment period on the proposed rule to amend existing regulations to charge a statutorily required annual programmatic administrative fee for new and existing communications use authorizations to cover the costs of administering the Agency's communications use program. The comment period for the original document closed February 22, 2022. The Agency is reopening the comment period for an additional 30 days from the date of publication of this document.

DATES: The comment period for the proposed rule published at 86 FR 72540 on December 22, 2021, is reopened. Comments must be received in writing by March 31, 2022.

ADDRESSES: Comments may be submitted via one of the following methods:

1. Federal eRulemaking Portal: https://www.regulations.gov. Follow the instructions for sending comments.

2. Mail: Director, Lands & Realty Management Staff, 201 14th Street SW, Washington, DC 20250-1124.

3. Hand Delivery: Director, Lands & Realty Management Staff, 1st Floor Southeast, 201 14th Street SW, Washington, DC 20250-1124.

All timely comments, including names and addresses when provided, will be placed in the record and will be available for public inspection and copying. The public may review comments at the Office of the Director, Lands & Realty Management, 1st Floor Southeast, Sidney R. Yates Federal Building, 201 14th Street SW, Washington, DC, during normal business hours. Visitors are encouraged to call ahead at 202-205-3563 to facilitate entry into the building.

FOR FURTHER INFORMATION CONTACT: Joey Perry, Lands & Realty Management Staff, 530-251-3286, joey.perry@usda.gov. Individuals who use telecommunication devices for the deaf and hard of hearing (TDD) may call the Federal Relay Service (FRS) at 1-800-877-8339, 24 hours per day, every day of the year, including holidays.

SUPPLEMENTARY INFORMATION: The proposed rule would amend existing regulations to charge a statutorily required annual programmatic administrative fee for new and existing communications use authorizations to cover the costs of administering the Agency's communications use program. To provide further opportunity for the public to comment, the Agency is reopening the comment period on the proposed rule for an additional 30 days.

The proposed rule can be found at https://www.federalregister.gov/documents/2021/12/22/2021-27681/land-uses-special-uses-annual-programmatic-administrative-fee-for-communications-use-authorizations. After the comment period closes, the Forest Service will consider timely and relevant comments in the development of the final rule.

Dated: February 24, 2022.
Meryl Harrell,
Deputy Under Secretary, Natural Resources & Environment.

[FR Doc. 2022-04254 Filed 2-24-22; 11:15 am]

BILLING CODE 3411-15-P